DEPARTMENT OF THE INTERIOR

Fish and Wildlife Service

[FWS-R2-ES-2023-0160; FXES11130200000-234-FF02ENEH00]

East Foundation Programmatic Safe Harbor Agreement for Ocelot Reintroduction and Enhancement of Survival Permit Application; South Texas

AGENCY: Fish and Wildlife Service, Interior.

ACTION: Notice of availability; request for comments.

SUMMARY: We, the U.S. Fish and Wildlife Service, announce the availability of an application for an enhancement of survival permit pursuant to the Endangered Species Act for the proposed East Foundation Programmatic Safe Harbor Agreement for Ocelot Reintroduction in South Texas. The application package includes the safe harbor agreement and a draft screening form pursuant to the National Environmental Policy Act. We invite the public and local, State, Tribal, and Federal agencies to comment on these documents. Before issuing the requested permit, we will take into consideration any information that we receive during the public comment period.

DATES: Submission of comments: We will accept comments received on or before October 16, 2023.

ADDRESSES: Obtaining documents: You may obtain copies of the enhancement of survival permit application, safe harbor agreement, and draft National Environmental Policy Act screening form online in Docket No. FWS-R2-ES-2023-0160 at https://www.regulations.gov. Other related information may be obtained online at https://www.eastfoundation.net/.

Submitting comments: You may submit written comments by one of the following methods:

• Internet: https://www.regulations.gov. Search for and submit comments on Docket No. FWS-R2-ES-2023-0160; or

• U.S. mail: Public Comments Processing, Attn: Docket No. FWS-R2-ES-2023-0160; U.S. Fish and Wildlife Service, MS: PRB/3W, 5275 Leesburg Pike, Falls Church, VA 22041-3803.

Please note which document(s) your comment references. For more information, see Public Availability of Comments.

FOR FURTHER INFORMATION CONTACT: Chuck Ardizzone, Field Supervisor, U.S. Fish and Wildlife Service, Houston, Texas, Coastal Ecological Services Field Office; telephone (281) 286-8282. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service (Service), announce the availability of an application for an enhancement of survival permit pursuant to section 10(a)(1)(A) of the Endangered Species Act of 1973, as amended (ESA; 16 U.S.C. 1531 et seq.) for the proposed East Foundation Programmatic Safe Harbor Agreement for Ocelot Reintroduction in South Texas. The application package includes the safe harbor agreement (SHA) and a draft screening form pursuant to the National Environmental Policy Act of 1969 (NEPA; 42 U.S.C. 4321 et seq.).

If the requested enhancement of survival permit is approved, it would authorize East Foundation (applicant) for incidental take of the ocelot (Leopardus (=Felis) pardalis) resulting from conservation and management activities covered by the SHA. With this notice, we also announce the availability of a draft screening form supporting a proposed categorical exclusion that has been prepared to evaluate the enhancement of survival permit application in accordance with NEPA requirements.

Background

Section 9 of the ESA and our implementing regulations at 50 CFR part 17 prohibit the “take” of fish or wildlife species listed as endangered or threatened. Take is defined under the ESA as to “harass, harm, pursue, hunt, shoot, wound, kill, trap, capture, or collect listed animal species, or to attempt to engage in such conduct” (16 U.S.C. 1538(19)). However, under section 10(a) of the ESA, we may issue permits to authorize take of listed species. “Incidental take” is defined by the ESA as take that is incidental to, and not the purpose of, carrying out an otherwise lawful activity. Regulations governing such take of endangered and threatened species are found at 50 CFR 17.21-22 and 50 CFR 17.31-32, respectively.

Under an SHA, participating landowners voluntarily undertake conservation and management activities on their properties to benefit species listed under the ESA. Enhancement of survival permits are issued to applicants in association with approved SHAs to authorize take of the covered species from covered activities on the enrolled lands that are identified in the SHA. Covered activities are those otherwise lawful actions that cause take of a covered species and for which take is authorized by a permit under 50 CFR 17.22(b)-(c) 50 CFR 17.32(b)-(c), as applicable. Under an SHA, the Service may authorize incidental taking of a covered species at a level that enables the participating landowner ultimately to return the enrolled property back to agreed-upon baseline conditions. Through the SHA and the associated enhancement of survival permit, the Service also provides assurances to enrolled property owners that additional land, water, and/or natural resource use restrictions will not be imposed as a result of their voluntary conservation actions.

Application requirements and issuance criteria for enhancement of survival permits for SHAs are found at 50 CFR 17.22(d)(2)(ii) and 17.32(d)(2)(ii). See also the joint policy on SHAs, which was published in the Federal Register with the Department of Commerce's National Oceanic and Atmospheric Administration, National Marine Fisheries Service (June 17, 1999, 64 FR 32717).

Proposed Action

The proposed action involves the issuance of an enhancement of survival permit to the East Foundation (applicant) in association with the East Foundation Programmatic Safe Harbor Agreement for Ocelot Reintroduction in South Texas. The ocelot is listed as an endangered species throughout its range in South and Central America, Mexico, and southern Texas and southern Arizona (37 FR 6476, 47 FR 31670). In Texas, ocelots are currently known to occur in coastal South Texas in two small, isolated breeding populations that total less than 100 known individuals (Service 2016).

The purpose of the proposed SHA is to expand the ocelot's occupied range in South Texas by reintroducing the species on the East Foundation's San Antonio Viejo Ranch in Jim Hogg and Starr Counties and to provide additional habitat for reintroduced ocelot dispersal onto private lands proximate to the San Antonio Viejo Ranch in Brooks, Hidalgo, Jim Hogg, Starr, and Zapata Counties. It is estimated that 362.6 square kilometers (km²) (89,600 acres (ac)) of suitable ocelot habitat exist within this area, with 124.3 km² (30,715 ac) located on the San Antonio Viejo Ranch. Pursuant to the SHA, the East Foundation will enroll participating landowners through issuance of certificates of inclusion. The enhancement of survival permit would authorize incidental take that may result from the implementation of the proposed conservation and management activities on the enrolled properties during a 30-year permit term, with an option to return the properties to the baseline condition at the conclusion of the permit.

Proposed conservation measures include ocelot reintroduction activities, monitoring, habitat management, and research. Reintroduction activities include the construction of release enclosures, maintenance and monitoring of ocelots in these enclosures, and the actual release of behaviorally and genetically suitable ocelots from the enclosures. Such activities will be implemented in accordance with the most up-to-date version of the Ocelot Breeding and Reintroduction Manual (Ocelot Reintroduction Study Captive Propagation Team 2023) cooperatively developed by the East Foundation, Service, and other partners. Monitoring of reintroduced ocelots and their descendants will occur via geolocation devices and cameras and will allow the East Foundation to evaluate the survival and behavior of individual ocelots on the San Antonio Viejo Ranch and enrolled properties. Habitat management activities are additional, optional measures to further benefit ocelot survival in the reintroduction area. These activities may include wildfire mitigation practices, minimization of brush clearing, habitat restoration, construction of supplemental drinking sources, and potential predator or competitor control. The East Foundation, with the cooperation of partners as appropriate, may also pursue opportunities for additional research in support of ocelot reintroduction.

Proposed management practices include otherwise lawful activities such as cattle grazing, building and maintaining ranch infrastructure, agriculture operations, agritourism, vegetation and wildlife management, and energy development interests. Any negative impacts to ocelots or their habitat due to management practices are anticipated to be minimal and temporary. The ocelot reintroduction program is expected to have a net conservation benefit and contribute to recovery by supporting multiple recovery actions identified in the species' current recovery plan (Service 2016), exceeding any possible negative impacts that may occur on the San Antonio Viejo Ranch or other participating properties due to the covered and otherwise legal activities.

Next Steps

We will evaluate the permit application, SHA, draft screening form, and comments we receive to determine whether the SHA application meets the requirements of the ESA, NEPA, and implementing regulations. If we determine that all requirements are met, we will approve the SHA and issue the enhancement of survival permit under section 10(a)(1)(A) of the ESA to the applicant in accordance with the terms of the SHA and specific terms and conditions of the authorizing permit. We will not make our final decision until after the 30-day comment period ends and we have fully considered all comments received during the public comment period.

Public Availability of Comments

All comments we receive become part of the public record associated with this action. Requests for copies of comments will be handled in accordance with the Freedom of Information Act, NEPA, and Service and Department of the Interior policies and procedures. Before including your address, phone number, email address, or other personal identifying information in your comment, you should be aware that your entire comment—including your personal identifying information—may be made publicly available at any time. While you can ask us to withhold your personal identifying information from public review, we cannot guarantee that we will be able to do so. All submissions from organizations or businesses, and from individuals identifying themselves as representatives or officials of organizations or businesses, will be made available for public disclosure in their entirety.

Authority

We provide this notice under the authority of section 10(c) of the ESA and its implementing regulations (50 CFR 17.22 and 17.32) and NEPA (42 U.S.C. 4371 et seq.) and its implementing regulations (40 CFR 1506.6).

Amy L. Lueders,
Regional Director, Southwest Region, U.S. Fish and Wildlife Service.

[FR Doc. 2023-19936 Filed 9-14-23; 8:45 am]

BILLING CODE 4333-15-P